SECURITIES AND EXCHANGE COMMISSION

[Release No. 34-68535; File No. SR-OCC-2012-24]

Self-Regulatory Organizations; The Options Clearing Corporation; Notice of Filing and Immediate Effectiveness of Proposed Rule Change To Make Its By-Laws and Rules Consistent With Recent System Changes to the Stock Loan/Hedge Program and Market Loan Program and Delete Certain Terms and Provisions No Longer Applicable

December 26, 2012.

Correction

In notice document 2012-31463, appearing on pages 140-142 in the issue of Wednesday, January 2, 2013, make the following correction:

On page number 142, in the third column, on the eighth and ninth lines from the bottom, the date reading “January 23, 2012” should read “January 23, 2013”.

[FR Doc. C1-2012-31463 Filed 1-15-13; 8:45 am]

BILLING CODE 1505-01-D